DEPARTMENT OF COMMERCE

National Oceanic and Atmospheric Administration (NOAA)

[Docket No. 010315068-1068-01]

RIN 0648-XA65

National Weather Service (NWS) Modernization and Associated Restructuring (MAR); Final Certification of No Degradation of Service for the Combined Consolidation and/or Automation and Closure of Six Weather Service Offices (WSO)

AGENCY: NWS, NOAA, Commerce.

ACTION: Notice.

SUMMARY: On March 26, 2001, the Acting Under Secretary of Commerce for Oceans and Atmosphere transmitted to Congress notice of approval of Consolidation and/or Automation and Closure certifications for WSOs Fairbanks, Alaska; Los Angeles, Redding, and Riverside, California; and Olympia and Wenatchee, Washington. Pub. L. 102-567 requires final certifications be published in the FR. This notice satisfies that requirement.

EFFECTIVE DATE: March 29, 2001.

ADDRESSES: Request for copies of the final certification packages should be sent to John Sokich, Room 11426, 1325 East-West Highway, Silver Spring, MD 20910-3283.

FOR FURTHER INFORMATION CONTACT: John Sokich, 301-713-0258.

SUPPLEMENTARY INFORMATION: The Olympia and Wenatchee Fire Weather office certifications were proposed in the March 26, 1999, FR for public comment. The 60-day public comment period closed on May 26, 1999. One public comment was received from Mr. Hueth, Chairman, Pacific Northwest Wildfire Coordinating Group (PNWCG) pertaining to both offices. A summary of the letter signed by Terry Hueth, Chairman, Pacific Northwest Wildfire Coordinating Group (PNWCG), and the NWS response to the letter follow.

Comment on Olympia and Wenatchee: A letter to Tom Beaver of the NWS, dated May 21, 1999, from Mr. Hueth, Chairman of PNWCG, stated in part, “The PNWCG represents local, state, and federal wildland fire agencies in Oregon and Washington * * *. We have a critical need for weather support to our agencies' missions in fire management and safety * * *. We have serious doubts about the ability of the MAR approach to adequately support the fire program * * *. The current fire weather program in the Pacific Northwest is being supplemented by personnel that the NWS will not have in end-state staffing. We do, however, fully support the NWS maintaining the transitional staff to meet fire weather needs * * *. Currently, dedicated expertise is compensating for missing technology * * *. The quality of service provided needs to be evaluated after technology is developed and there is no need to rely on transitional staffing * * *. It is difficult to endorse a closure and say there will be no degradation of service without seeing what the modernized service is * * *. As was the case with the Salem/Portland office, the office closure at Olympia, Washington is difficult to evaluate because of the lack of fire activity after the move to the Seattle WFO. The Seattle WFO did institute Internet fire weather briefings which were well done and well received by field offices. However, there was an impact on the State of Washington Department of Natural Resource (DNR) employees. With the lack of NWS personnel in Olympia, DNR workload was increased because DNR personnel had to conduct briefings and perform other fire weather-related work previously done by the NWS. The closure of the Wenatchee, Washington, fire weather office has had an effect on the fire program in northeast Washington. A survey was conducted of federal fire agency personnel in that area. Most respondents characterized the movement of personnel as resulting in no change in the quality of the products and services. However, some individuals indicated degradation in the qualify of products and services since the move. One responder mentioned wind speed and relative humidity forecasts being of poorer quality. In conclusion, the PNWCG remains very concerned that the NWS modernization program will not meet our needs. We are supportive of the June 11, 1998 NWS Report of the Fire Weather Team that was submitted to NWS Director John Kelly * * *. We are very uncomfortable with the idea of certifying no degradation of services without knowing what the services will be and before the full site of MAR capabilities is in place.”

NWS Response: At the September 29, 1999, Modernization Transition Committee (MTC) meeting, the NWS briefed the MTC and the PNWCG attendees on modernized operations and explained how this was the best use of personnel and technology. The NWS stated the “transition” forecasters (two each at Seattle, Spokane, Pendleton, and Portland) are now considered part of end-state staffing, and are not scheduled to be eliminated. These staff were provided specifically to support the fire weather program. During the MTC consultation on September 29, 1999, Mr. Day, Northwest Coordination Center Director at the Portland Geographical Area Coordination Center (GACC), stated the GACC would accept the Olympia and Wenatchee transitions. The MTC endorsed the proposed closure of the Olympia and Wenatchee WSOs with the stipulation, “The MTC endorsement to close these weather offices does not relieve the NWS of their responsibility to retain transitional staffing for the Fire Weather program. As outlined in the ‘Report of the Fire Weather Team,’ June 11, 1998, the transitional staffing must be retained until NWS has the advanced operational technology in place and demonstrates its support to the satisfaction of the fire weather customers.” The Los Angeles Aviation office and the Redding and Riverside Weather office certifications were proposed in the July 9, 1999, FR for public comment. The 60-day public comment period closed on September 7, 1999. No public comments were received pertaining to Los Angeles, four public comments were received pertaining to Redding, and three public comments were received pertaining to Riverside. One of these comments pertained to both Redding and Riverside. The comments and the NWS response are set forth here for reference.

Comment pertaining to both Redding and Riverside: A letter, dated August 18, 1999, signed by James E. Owen, Deputy Director for Fire Protection from the California Department of Forestry and Fire Protection (CDF), pertained to both Redding and Riverside. The letter stated in part, “For the record, the California Department of Forestry and fire protection (CDF) as a client of the National Weather Service (NWS), strongly objects to the proposed closure of the Redding and Riverside Fire Weather Offices. The proposed closures are not in the best interests of the public and do not conform to the legal requirements of section 706 of Public Law 102-567, requiring the Secretary of Commerce to certify that consolidation, automation, and/or closure of a NWS field office will not result in a degradation of service to the affected area of responsibility * * * ” “CDF believes that the proposed office closures will degrade the level of service that we receive from the NWS. This will adversely affect our ability to meet our fire protection mission and provide for firefighter and public safety. Our specific objections to the office closures are:

1. The proposed office closures represents [sic] a unilateral termination of the California Interagency Fire Weather Agreement, signed by the NWS in 1997.

2. Fire weather forecasts generated by the Redding and Riverside offices will be divided among ten (10) California NWS offices. Some CDF administrative units will receive forecasts from three (3) different NWS offices * * *.

3. NWS reorganization will result in the loss of non-federal, non-wildlife services currently provided by the Redding and Riverside Offices * * *.

4. The NWS Modernization efforts propose to eliminate the dedicated Fire Weather Forecaster position. If fire weather forecasts issued by general forecasters, unfamiliar with local weather patterns, meso-scale topographic influences and fire behavior, are off by even a small degree, firefighter safety may be compromised * * *.

5. The proposed office closure will result in loss of access to smoke management products to wildland agency managers.

6. The reorganization will cause the loss of direct, daily interaction between NWS forecasters and operational fire personnel at the North and South Emergency Operations Command centers * * *.

6. The proposal may result in reduced availability and qualification of Incident Meteorologists due to assigning these individuals to coverage shifts for general forecasting assignments * * *.

Providing fire fighter safety is a vital responsibility of our department * * *. It is clear to us that the proposed NWS closures are based on unproven assumptions and will likely result in a decrease in the current level of service provided by the NWS to the California wildland agencies * * *.'' Specific Comments on Redding: A summary of the three letters follows. A letter to Secretary Daley, dated July 21, 1999, from Representative Wally Herger, stated in part, “I am writing in strong opposition to the proposed closing of the Redding California Interagency Fire Forecast and Warning Unit (IFFWU) under the National Weather Service's multi-year modernization and associated restructuring program. The loss of this fire weather expertise seriously degrades the ability of our local agencies to prevent and fight wildfires, and I respectfully urge your assistance in ensuring the continued existence of this essential service * * *. By transferring the functions of the Redding office to existing offices in Sacramento and Eureka, California, Medford, Oregon and Reno, Nevada, we will lose the high level of local expertise and knowledge essential for effective fire management in the area * * *.” The second letter, dated July 27, 1999, from Daniel K. Chisholm, Forest Supervisor, U.S. Department of Agriculture, stated in part, “* * *” The Mendocino National Forest is concerned with the National Weather Service (NWS) proposal to eliminate several fire whether forecast offices, eliminate the fire weather forecaster positions and establish ten forecast offices over four states * * *. Weather is a critical issue in maintaining firefighter safety, especially for our forest * * *. We depend on the Redding Fire Weather forecasters to give us advance warning of any possible or existing condition(s) which will affect our suppression operations in a single forecast for various parts of our forest * * *. The Redding Fire Weather Office has provided excellent service to the Forest in the areas of fire weather forecasting, spot forecast and smoke dispersal forecast. The potential loss of this resource presents serious concerns that should be addressed before a final decision is made in the limitation of the Redding facility.''

The third comment, a letter to Secretary Daley, dated August 30, 1999, was signed by Senator Dianne Feinstein, and stated in part, “I am writing with great concern over the proposed closure of the Interagency Fire Forecast and Warning Unit in Redding which is operated under the National Weather Service * * *. At this very moment, more than 10,000 fire fighters are battling over 100 blazes across Northern California * * *. The smoke is so dense, one can barely see our state's Capitol building. All this points clearly to the need to maintain effective fire weather forecasters that can assist fire fighters on the ground with exact climatic predictions and assistance * * *.”

Specific Comments on Riverside: A summary of the two letters follows. A letter, dated August 19, 1999, was signed by Scott Goodwin, Battalion Chief, City of Santa Fe Springs Headquarters Fire Station. The comment was, “This letter is in response to the request for public comment regarding the closure of the Riverside California FWO. We are opposed to this action and believe that closure of this office will be detrimental to planning and fire ground operations during major wildland fires that threaten our area. We encourage you to reconsider this action in the interest of public safety. We appreciate the opportunity to comment on this matter.”

The second comment, dated August 26, 1999, was signed by William R. Bamattre, Chief Engineer and General Manager, City of Los Angeles. He stated in part, “* * * the Los Angeles City Fire Department's position is to oppose any changes which would result in a loss of staffing or expertise in the present method of fire weather forecasting * * *. The Los Angeles Fire Department depends on the highly specialized skills of the fire weather forecasters * * *. I am concerned that the National Weather Service proposal would result in a fragmented degradation of the fire weather forecasting currently provided when specialization, coordination, and communication should be the preeminent factors * * *. Please be advised that the Los Angeles City Fire Department fully supports the position of the CWCG [California Wildlife Coordinating Group].”

NWS Response: The NWS explained the process for closing the Redding WSO and Riverside Fire Weather offices and reiterated that current NWS fire weather support to the Redding and Riverside Geographical Area Coordination Centers (GACCs) will not be impacted. On November 18, 1999, the NWS met with the California Wildlife Coordinating Group (CWCG) and began negotiations to outline a plan for transfer of fire weather services to other NWS forecast offices. The meeting included discussion on renegotiation of the interagency agreement, development of a dynamic transition plan, and creation of a NWS/CWCG User Assessment Team to validate the success of implementing the transition plan. The NWS and CWCG agreed the transition plan must demonstrate NWS services to CWCG satisfication before transferring fire weather services from Redding and Riverside WSOs to other NWS forecast offices. The target date for transfer of fire weather services to NWS forecast offices is the end of 2002. The CWCG accepted this plan and agreed to the proposed closure of the Redding and Riverside WSOs. On December 8, 1999, the MTC endorsed the proposed closures of the Redding and Riverside WSOs with the stipulation, “In addition, the NWS must honor the Interagency Agreement with the California Wildfire Coordination Group and not transfer personnel or fire weather responsibilities from the Redding and Riverside GACCs until a mutually acceptable transfer plan has been developed and implemented.”

The Fairbanks certifications were proposed in the September 29, 1999, FR for public comment. The 60-day public comment period closed on November 29, 1999. No public comments were received. The MTC endorsed closure certification at its December 8, 1999, meeting.

After consideration of the public comments received and the MTC endorsements, the Acting Under Secretary of Commerce for Oceans and Atmosphere approved these six consolidation and/or automation and closure certifications and transmitted notice of approval to Congress on March 26, 2001. Certification approval authority was delegated from the Secretary of Commerce to the Under Secretary in June 1996. The NWS is completing the certification requirements of Pub. L. 102-567 with respect to the six NWS offices identified herein by publishing this final consolidation and/or automation and closure certification notice in the FR.

Dated: March 26, 2001.
John J. Kelly, Jr.,
Assistant Administrator for Weather Services.

[FR Doc. 01-7794 Filed 3-28-01; 8:45 am]

BILLING CODE 3510-KE-M